DEPARTMENT OF ENERGY

Federal Energy Regulatory Commission

[Docket No. RP00-70-002]

Algonquin Gas Transmission Company; Notice of Compliance Filing

August 29, 2003.

Take notice that on August 21, 2003, Algonquin Gas Transmission Company (Algonquin) tendered for filing as part of its FERC Gas Tariff, Fourth Revised Volume No. 1, the following tariff sheets proposed to be effective October 1, 2003:

Sub Original Sheet No. 50

Sub Original Sheet No. 51

Sub Original Sheet No. 52

Sub Original Sheet No. 53

Algonquin states that it is making this filing pursuant to an order issued by the Commission in the captioned docket on August 6, 2003. The August 6 Order accepted the tariff sheets listed in the appendix of the order, subject to Algonquin's submission within 15 days, of revised tariff sheets reflecting the length of the negotiated rate agreements detailed in the tariff sheets.

Algonquin states that copies of its filing have been mailed to all affected customers of Algonquin and interested state commissions, and to all parties on the Commission's official service list in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: September 3, 2003.

Magalie R. Salas,
Secretary.

[FR Doc. 03-22724 Filed 9-5-03; 8:45 am]

BILLING CODE 6717-01-P